DEPARTMENT OF THE INTERIOR

National Indian Gaming Commission

25 CFR Part 502

RIN 3141-AA10

Definitions: Electronic or Electromechanical Facsimile; Games Similar to Bingo; Electronic, Computer or Other Technologic Aid to Class II Games

AGENCY: National Indian Gaming Commission, Interior.

ACTION: Proposed rule: notice of extension of time.

SUMMARY: On March 22, 2002, the National Indian Gaming Commission published, for final comment, revised definitions of “electronic or electromechanical facsimile,” “games similar to bingo” and “electronic, computer or other technologic aid to class II games.” Several tribes have requested an extension of time to submit comments. As a result, the date for filing comments is being extended for two weeks.

DATES: Comments shall be filed on or before May 6, 2002.

ADDRESSES: Send comments by mail, facsimile, or hand delivery to: Definitions: Electronic and Electromechanical Facsimile, Amendment Comments, National Indian Gaming Commission, Suite 9100, 1441 L Street, NW., Washington, DC 20005. Fax number: 202-632-7066 (not a toll-free number). Public comments may be delivered or inspected from 9 a.m. until noon and from 2 p.m. to 5 p.m. Monday through Friday.

FOR FURTHER INFORMATION CONTACT: Penny J. Coleman at 202-632-7003 or, by fax, at 202-632-7066 (these are not toll-free numbers).

SUPPLEMENTARY INFORMATION: The Indian Gaming Regulatory Act (“IGRA” or “Act”) 25 U.S.C. 2701-2721, enacted on October 17, 1988, established the National Indian Gaming Commission (Commission). On April 9, 1992, the Commission issued a final rule defining key terms in the Act. Among the terms defined by the Commission was “electronic or electromechanical facsimile.” The Commission defined this term by reference to the Johnson Act, 15 U.S.C. 1171(a)(2) and (3). See 25 CFR 502.8. On June 22, 2001, the Commission proposed and sought public comment on removal of 25 CFR 502.8 and on using, instead, the plain language interpretation that has been preferred by the courts. In response to the public comment received, the Commission published, for final comment, revisions to the definition, as well as several other related definitions. 67 FR 13296 (March 22, 2002). At the request of several tribes, the Commission has decided to extend the comment period until May 6, 2002.

Dated: April 23, 2002.
Kevin K. Washburn,
General Counsel, National Indian Gaming Commission.

[FR Doc. 02-10396 Filed 4-26-02; 8:45 am]

BILLING CODE 7565-01-P